DEPARTMENT OF HOMELAND SECURITY

Bureau of Customs and Border Protection

[CBP Decision 04—07]

Recordation of Trade Name: “DISPALCA”

AGENCY: Customs and Border Protection (CBP).

ACTION: Notice of final action.

SUMMARY: This document gives notice that “DISPALCA” has been recorded with CBP as a trade name by Caribbean Imports, Inc., a Florida corporation organized under the laws of the State of Florida, P.O. Box 617308, Orlando, Florida 32861-7308.

The application for trade name recordation was properly submitted to CBP and published in the Federal Register. As no public comments in opposition to the recordation of this trade name were received by CBP within the 60-day comment period, the trade name has been duly recorded with CBP and will remain in force as long as this trade name is in use by this manufacturer in accordance with § 133.15 of the CBP Regulations.

EFFECTIVE DATE: February 10, 2004.

FOR FURTHER INFORMATION CONTACT: La Verne Watkins, Paralegal Specialist, Intellectual Property Rights Branch, Office of Regulations and Rulings, U.S. Customs and Border Protection, 1300 Pennsylvania Avenue, NW., Mint Annex, Washington, DC 20229; (202) 572-8710.

SUPPLEMENTARY INFORMATION: Trade names that are being used by manufacturers or traders may be recorded with Customs and Border Protection (CBP) to afford the particular business entity with increased commercial protection. CBP procedures for recording trade names are provided at § 133.11 et seq. of the CBP Regulations (19 CFR 133.11 et seq.). Pursuant to these regulatory procedures, Caribbean Imports, Inc., a Florida corporation organized under the laws of the State of Florida, P.O. Box 617308, Orlando, Florida 32861-7308, applied to CBP for protection of its manufacturer's trade name, “DISPALCA”.

On Wednesday, November 19, 2003, CBP published a notice of application for the recordation of the trade name “DISPALCA” in the Federal Register (68 FR 65304). The notice advised that before final action would be taken on the application, consideration would be given to any relevant data, views, or arguments submitted in writing in opposition of the recordation of this trade name. The closing day for the comment period was January 20, 2004.

As of the end of the comment period, January 20, 2004, no comments were received. Accordingly, as provided by § 133.14 of the CBP Regulations, “DISPALCA” is recorded with CBP as the trade name used by the manufacturer, Dispalca, and will remain in force as long as this trade name is in use by this manufacturer in accordance with § 133.15 of the CBP Regulations.

Dated: February 3, 2004.
Paul Pizzeck,
Acting Chief, Intellectual Property Rights Branch.

[FR Doc. 04-2726 Filed 2-9-04; 8:45 am]

BILLING CODE 4820-02-P